DEPARTMENT OF COMMERCE

International Trade Administration

[A-570-868]

Certain Folding Metal Tables and Chairs from the People's Republic of China: Notice of Partial Rescission of First Antidumping Duty Administrative Review

AGENCY: Import Administration, International Trade Administration, Department of Commerce.

ACTION: Notice of Partial Rescission of First Antidumping Duty Administrative Review.

SUMMARY: On July 29, 2003, the Department of Commerce (“the Department”) published in the Federal Register a notice announcing the initiation of the administrative review of the antidumping duty order on folding metal tables and chairs from the People's Republic of China (“PRC”). The period of review (“POR”) is December 3, 2001, to May 31, 2003. See Notice of Initiation of Antidumping and Countervailing Duty Administrative Reviews, Requests for Revocation in Part and Deferral of Administrative Reviews, 68 FR 44524, July 29, 2003 (“Initiation Notice”). This review has now been partially rescinded for certain companies because the requesting party withdrew its requests.

EFFECTIVE DATE: November 26, 2003.

FOR FURTHER INFORMATION CONTACT: John Drury, Patrick Edwards or Anya Naschak, Enforcement Group III, Office 8, Import Administration, International Trade Administration, U.S. Department of Commerce, 14th Street and Constitution Avenue, N.W., Room 7866, Washington, D.C. 20230; telephone (202) 482-0195, (202) 482-8029, (202) 482-6375, respectively.

SUPPLEMENTARY INFORMATION:

Scope of the Review

The merchandise subject to this review consists of assembled and unassembled folding tables and folding chairs made primarily or exclusively from steel or other metal, as described below:

(1) Assembled and unassembled folding tables made primarily or exclusively from steel or other metal (“folding metal tables”). Folding metal tables include square, round, rectangular, and any other shapes with legs affixed with rivets, welds, or any other type of fastener, and which are made most commonly, but not exclusively, with a hardboard top covered with vinyl or fabric. Folding metal tables have legs that mechanically fold independently of one another, and not as a set. The subject merchandise is commonly, but not exclusively, packed singly, in multiple packs of the same item, or in five piece sets consisting of four chairs and one table. Specifically excluded from the scope of folding metal tables are the following:

a. Lawn furniture;

b. Trays commonly referred to as “TV trays”;

c. Side tables;

d. Child-sized tables;

e. Portable counter sets consisting of rectangular tables 36'' high and matching stools; and

f. Banquet tables. A banquet table is a rectangular table with a plastic or laminated wood table top approximately 28'' to 36'' wide by 48'' to 96'' long and with a set of folding legs at each end of the table. One set of legs is composed of two individual legs that are affixed together by one or more cross-braces using welds or fastening hardware. In contrast, folding metal tables have legs that mechanically fold independently of one another, and not as a set.

(2) Assembled and unassembled folding chairs made primarily or exclusively from steel or other metal (“folding metal chairs”). Folding metal chairs include chairs with one or more cross-braces, regardless of shape or size, affixed to the front and/or rear legs with rivets, welds or any other type of fastener. Folding metal chairs include: those that are made solely of steel or other metal; those that have a back pad, a seat pad, or both a back pad and a seat pad; and those that have seats or backs made of plastic or other materials. The subject merchandise is commonly, but not exclusively, packed singly, in multiple packs of the same item, or in five piece sets consisting of four chairs and one table. Specifically excluded from the scope of folding metal chairs are the following:

a. Folding metal chairs with a wooden back or seat, or both;

b. Lawn furniture;

c. Stools;

d. Chairs with arms; and

e. Child-sized chairs.

The subject merchandise is currently classifiable under subheadings 9401710010, 9401710030, 9401790045, 9401790050, 9403200010 and 9403200030 of the Harmonized Tariff Schedule of the United States (“HTSUS”). Although the HTSUS subheadings are provided for convenience and U.S. Customs and Border Protection (“CBP”) purposes, the Department's written description of the merchandise is dispositive.

Background:

On June 16, 2003, in response to the Department's notice of opportunity to request a review published in the Federal Register, Wok and Pan Industry, Inc. (“Wok & Pan”) requested the Department conduct an administrative review of the antidumping duty order on folding metal tables and chairs (“FMTC”) from the PRC (See Notice of Antidumping Duty Order: Folding Metal Tables and Chairs from the People's Republic of China, 67 FR 43277 (June 27, 2002)) for entries of subject merchandise made by Wok & Pan. On June 26, 2003, EJ Footwear, LLC requested the Department conduct an administrative review of entries of subject merchandise made by Dongguan Shichang Metals Factory Co., Ltd. (“Shichang”). On June 30, 2003, the Meco Corporation (“petitioner”) requested the Department conduct an administrative review of entries of subject merchandise made by three Chinese producers/exporters: Feili Furniture Development Co., Ltd and Feili (Fujian) Co., Ltd (“Feili”), New-Tec Integration Co., Ltd. (“New-Tec”), and Shichang. The Department initiated the review for all companies. See Initiation Notice.

On October 27, 2003, the petitioner requested a withdrawal of its request for review of products manufactured or exported by Feili and New-Tec. The applicable regulation, 19 CFR 351.213(d)(1), states that if a party that requested an administrative review withdraws the request within 90 days of the publication of the notice of initiation of the requested review, the Secretary will rescind the review. The petitioner made a request for withdrawal within the 90-day deadline, in accordance with 19 CFR 351.213(d)(1). Respondents Feili and New-Tec objected to this request, on the grounds that Feili and New-Tec had also submitted requests for review of entries of subject merchandise produced by Feili and New-Tec. Petitioner argued that there is no record evidence that Feili or New-Tec officially filed a copy of their request for review and, further, that there is no copy of such a request available in the public case file at the Department. The Department has found that Feili and New-Tec have submitted no evidence on record that any individual representing their interests in this case attempted to file on the official record a request for review with the requisite number of copies to the Import Administration Docket Center, nor that the review request was served on interested parties in this case, as required under the regulations. The Department has determined that the record strongly indicates that Feili and New-Tec did not officially request a review in this case. For further discussion of these issues, please see the Decision Memorandum to Joseph A. Spetrini, Deputy Assistant Secretary for Import Administration, Group III from John Drury, Patrick Edwards, Anya Naschak, case analysts for Office 8 through Richard O. Weible, Office 8 Director (November 20, 2003).

Therefore, for Feili and New-Tec, the Department is rescinding this review of the antidumping duty order on FMTC from the PRC covering the period December 3, 2001, to May 31, 2003.

This notice is issued and published in accordance with sections 751(a)(1) and 777(i)(l) of the Act and 19 CFR 351.213(d)(4) of the Department's regulations.

Dated: November 20, 2003.
James J. Jochum,
Assistant Secretary for Import Administration.

[FR Doc. 03-29600 Filed 11-25-03; 8:45 am]

BILLING CODE 3510-DS-S